DEPARTMENT OF ENERGY

Federal Energy Regulatory Commission

Combined Notice of Filings # 1

March 30, 2010.

Take notice that the Commission received the following electric rate filings:

Docket Numbers: ER10-547-001.

Applicants: Golden Spread Electric Cooperative, Inc.

Description: Golden Spread Electric Cooperative, Inc submits revisions to its Wholesale Power Contracts with their Members as First Revised Rate Schedule 23-33 in compliance with FERC's 2/26/10 letter order.

Filed Date: 03/29/2010.

Accession Number: 20100330-0208.

Comment Date: 5 p.m. Eastern Time on Monday, April 19, 2010.

Docket Numbers: ER10-637-001.

Applicants: ISO New England Inc.

Description: ISO New England, Inc et al. submits their Operating Agreement in compliance with the Commission's 2/24/10 letter order.

Filed Date: 03/26/2010.

Accession Number: 20100329-0206.

Comment Date: 5 p.m. Eastern Time on Friday, April 16, 2010.

Docket Numbers: ER10-678-003.

Applicants: Southwest Power Pool, Inc.

Description: Southwest Power Pool, Inc submits Substitute Second Revised Sheet 7 et al. to FERC Electric Tariff, Fifth Revised Volume 1 to be effective 3/31/10.

Filed Date: 03/25/2010.

Accession Number: 20100326-0209.

Comment Date: 5 p.m. Eastern Time on Thursday, April 15, 2010.

Docket Numbers: ER10-764-001.

Applicants: Central Maine Power Company.

Description: Central Maine Power Company submits Engineering and Procurement Agreement dated 1/20/09 with Record Hill Wind, LLC designated as Original Service Agreement etc.

Filed Date: 03/26/2010.

Accession Number: 20100326-0211.

Comment Date: 5 p.m. Eastern Time on Friday, April 16, 2010.

Docket Numbers: ER10-786-001.

Applicants: Ameren Energy Marketing Company.

Description: Ameren Energy Marketing Company submits an amendment to its 2/22/10 filing.

Filed Date: 03/29/2010.

Accession Number: 20100330-0207.

Comment Date: 5 p.m. Eastern Time on Monday, April 19, 2010.

Docket Numbers: ER10-852-000.

Applicants: Grays Ferry Cogeneration Limited Partnership.

Description: Supplement to Market-Based Rate Application of GRAYS FERRY COGENERATION PARTNERSHIP.

Filed Date: 03/29/2010.

Accession Number: 20100329-5148.

Comment Date: 5 p.m. Eastern Time on Monday, April 19, 2010.

Docket Numbers: ER10-943-000.

Applicants: Bangor Hydro Electric Company.

Description: Bangor Hydro Electric Company submits revised sheets to Attachment P to Schedule 21-BHE of the ISO-New England tariff.

Filed Date: 03/29/2010.

Accession Number: 20100329-0214.

Comment Date: 5 p.m. Eastern Time on Monday, April 19, 2010.

Docket Numbers: ER10-944-000.

Applicants: Xcel Energy Services Inc.

Description: Northern States Power Company submits proposed revisions to the Interconnection and Interchange Agreement with Minnesota Municipal Power Agency etc.

Filed Date: 03/29/2010.

Accession Number: 20100329-0215.

Comment Date: 5 p.m. Eastern Time on Monday, April 19, 2010.

Docket Numbers: ER10-945-000.

Applicants: Central Maine Power Company.

Description: Central Maine Power Company submits petitions to terminate the Engineering and Procurement Agreement with Fox Island Electric Cooperative, Inc.

Filed Date: 03/29/2010.

Accession Number: 20100329-0216.

Comment Date: 5 p.m. Eastern Time on Monday, April 19, 2010.

Docket Numbers: ER10-946-000.

Applicants: Central Maine Power Company.

Description: Central Maine Power Company submits petition to terminate the Engineering and Procurement Agreement with TransCanada Maine Wind Development, Inc.

Filed Date: 03/29/2010.

Accession Number: 20100329-0217.

Comment Date: 5 p.m. Eastern Time on Monday, April 19, 2010.

Docket Numbers: ER10-947-000; ER10-948-000; ER10-949-000; ER10-950-000.

Applicants: Westar Energy, Inc.

Description: Westar Energy, Inc submits revised sheets to the Rate Schedules and Tariff etc.

Filed Date: 03/29/2010.

Accession Number: 20100329-0222.

Comment Date: 5 p.m. Eastern Time on Monday, April 19, 2010.

Docket Numbers: ER10-951-000.

Applicants: Entergy Services, Inc.

Description: Entergy Operating Companies submits an executed Fourth Revised Network Integration Transmission Service Agreement with Cleco Power LLC.

Filed Date: 03/29/2010.

Accession Number: 20100330-0206.

Comment Date: 5 p.m. Eastern Time on Monday, April 19, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-7699 Filed 4-5-10; 8:45 am]

BILLING CODE 6717-01-P